DEPARTMENT OF HEALTH AND HUMAN SERVICES

Centers for Medicare & Medicaid Services

[CMS-1578-N]

Medicare Program; Listening Session Regarding Confidential Feedback Reports and the Implementation of a Value-Based Payment Modifier for Physicians, September 24, 2010

AGENCY: Centers for Medicare & Medicaid Services (CMS), HHS.

ACTION: Notice of meeting.

SUMMARY: This notice announces a listening session being conducted as part of the transition to a value-based purchasing program for services of physicians and certain other professionals, as well as other related provisions under the Patient Protection and Affordable Care Act (known as the Affordable Care Act (ACA)). This public law contains provisions that continue and expand the Physician Feedback Program and also require implementation of a value-based payment modifier to the fee-for-service physician fee schedule. The purpose of the listening session is to solicit comments on approaches being considered as we implement these provisions. Physicians, physician associations, and all others interested in the use of confidential feedback reports as one means of enhancing quality and efficiency are invited to participate, in person or by calling in to the teleconference. The meeting is open to the public, but attendance is limited to space and teleconference lines available. Background information, including the relevant preamble language from calendar year (CY) 2011 Physician Fee Schedule proposed rule will be posted on the CMS Web site at http://www.cms.hhs.gov/center/physician.asp approximately 1 week prior to the session.

DATES: Meeting Date: The listening session will be held on Friday, September 24th from 10 a.m. until 4 p.m. Eastern Daylight Time (e.d.t.)

Deadline for Meeting Registration and Request for Special Accommodations: Registration opens on July 30, 2010. Registration must be completed by 5 p.m. e.d.t. on September 22, 2010. Requests for special accommodations must be received by 5 p.m. e.d.t. on September 22, 2010.

Deadline for Submission of Written Comments or Statements: Written comments or statements may be sent via mail, fax, or electronically to the address specified in the ADDRESSES section of this notice and must be received by 5 p.m. e.d.t. on Monday, September 20, 2010.

ADDRESSES: Meeting Location: The listening session will be held in the main auditorium of the Central Building of the Centers for Medicare & Medicaid Services, 7500 Security Boulevard, Baltimore, MD 21244-1850.

Registration and Special Accommodations: Persons interested in attending the meeting or participating by teleconference must register by completing the on-line registration via the CMS Web site at http://www.eventsvc.com/palmettogba/092410. Individuals who require special accommodations should send an e-mail request to pamela.cheetham@cms.hhs.gov or via regular mail to Pamela Cheetham at the address specified in the FOR FURTHER INFORMATION CONTACT section of this notice.

Written Comments or Statements: Written comments or statements may be sent via e-mail to PhysicianVBP@cms.hhs.gov, faxed to 410-786-8005; or sent via regular mail to: Attn: Physician VBP Comments, Mail Stop C5-15-12, Centers for Medicare & Medicaid Services, 7500 Security Boulevard, Baltimore, MD 21244-1850.

All persons planning to make a statement in person at the listening session are urged to submit statements in writing at the listening session and should subsequently submit the information electronically by the timeframe specified in the DATES section of this notice.

FOR FURTHER INFORMATION CONTACT: For further information regarding the September 24, 2010 listening session contact Pamela Cheetham at (410) 786-2259. You may also send inquiries about this listening session via e-mail to pamela.cheetham@cms.hhs.gov or via regular mail at Centers for Medicare & Medicaid Services, Mail Stop C5-15-12, 7500 Security Boulevard, Baltimore, MD 21244-1850.

I. Background

Section 131(c) of the Medicare Improvements for Patients and Providers Act of 2008 (MIPPA) established the Physician Feedback Program that requires the Secretary to provide confidential feedback reports to physicians on resource use. Section 131(d) of MIPPA requires the Secretary to develop a plan for the transition to a value-based purchasing program for covered professional services.

The Affordable Care Act contains several provisions related to implementation of physician value-based purchasing (PVBP). Value-based purchasing is expected to create financial incentives for increasing quality of care and decreasing overall costs by transitioning to payment that will link levels of reimbursement to higher achievement of clinical quality and efficiency. Section 3003 of ACA continues and expands the Physician Feedback Program and requires the Secretary of Health and Human Services (the Secretary), beginning in 2012, to provide reports that compare patterns of resource use of individual physicians to other physicians. In addition, section 3007 of the ACA requires the Secretary to apply a budget-neutral payment modifier to the fee-for-service physician fee schedule beginning in 2015. During the listening session, we will discuss Phase I and Phase II of the Physician Feedback Program and outline the relevant sections of the ACA. Stakeholder input will be sought on a number of topics including but not limited to: report design and dissemination, cost and quality measures to assess performance, risk adjustment, attribution of Medicare beneficiaries to providers, benchmarking and peer groups, and composite measures of cost and quality.

Background information, including the relevant preamble language from CY 2011 Physician Fee Schedule proposed rule (75 FR 40113 through 40116) will be posted on the CMS Web site at http://www.cms.hhs.gov/center/physician.asp approximately 1 week prior to the session. The complete CY 2011 Physician Fee Schedule proposed rule appeared in the July 13, 2010, Federal Register (75 FR 40040) and is available at http://edocket.access.gpo.gov/2010/pdf/2010-15900.pdf. The public comment period for this proposed rule ends August 24, 2010. Please note that in order to ensure the consideration of public comments for purposes of the CY 2011 Physician Fee Schedule final rule, comments must be submitted as directed in the proposed rule (see 75 FR 40040). The issues identified and discussed during this listening session, along with other comments we receive, will assist CMS in developing the future phases of the Physician Feedback Program as well as implementation of the value-based payment modifier.

II. Listening Session Format

The listening session will be held on September 24, 2010. The session will begin at 10 a.m. e.d.t. with an overview of the objectives for the session and a brief summary of the relevant value-based purchasing provisions of ACA. The agenda will provide opportunities for brief 2-minute comments from on-site session attendees. As time allows, telephone participants will also have the opportunity to provide comments that do not exceed 2-minutes. We will break for lunch from approximately 12:30 p.m. e.d.t. to 1:15 p.m. e.d.t. The meeting will conclude by 4 p.m. e.d.t. with brief comments on next steps.

III. Registration Instructions

For security reasons, any persons wishing to attend this meeting must register by the date listed in the DATES section of this notice. Persons interested in attending the meeting or participating by teleconference must register by completing the on-line registration via the designated Web site at http://www.eventsvc.com/palmettogba/092410. The on-line registration system will generate a confirmation page to indicate the completion of your registration. Please print this page as your registration receipt.

Individuals may also participate in the listening session by teleconference. Registration is required as the number of call-in lines will be limited. The call-in number will be provided upon confirmation of registration.

An audio download and transcript of the listening session will be available within two weeks after completion of the listening session through the CMS Web site Physician Center Spotlights at http://www.cms.hhs.gov/center/physician.asp.

IV. Security, Building, and Parking Guidelines

This meeting will be held in a Federal government building; therefore, Federal security measures are applicable. In planning your arrival time, we recommend allowing additional time to clear security. The on-site check-in for visitors will begin at 9:15 a.m. e.d.t. Please allow sufficient time to complete security checkpoints.

Security measures include the following:

• Presentation of government-issued photographic identification to the Federal Protective Service or Guard Service personnel.

• Interior and exterior inspection of vehicles (this includes engine and trunk inspection) at the entrance to the grounds. Parking permits and instructions will be issued after the vehicle inspection.

• Passing through a metal detector and inspection of items brought into the building. We note that all items brought to CMS, whether personal or for the purpose of demonstration or to support a demonstration, are subject to inspection.

We cannot assume responsibility for coordinating the receipt, transfer, transport, storage, set-up, safety, or timely arrival of any personal belongings or items used for demonstration or to support a demonstration.

Note: Individuals who are not registered in advance will not be permitted to enter the building and will be unable to attend the meeting. The public may not enter the building earlier than 45 minutes prior to the convening of the meeting. All visitors must be escorted in areas other than the lower and first floor levels in the Central Building. Seating capacity is limited to the first 250 registrants.

Authority: Sections 3001 and 3007 of the Patient Protection and Affordable Care Act.

Dated: July 29, 2010.
Donald M. Berwick,
Administrator, Centers for Medicare & Medicaid Services.

[FR Doc. 2010-19128 Filed 8-3-10; 8:45 am]

BILLING CODE 4120-01-P